DEPARTMENT OF HOMELAND SECURITY

Coast Guard

33 CFR Parts 100, 117, 147, and 165

[USCG-2015-0242]

Quarterly Listings; Safety Zones, Security Zones, Special Local Regulations, Drawbridge Operation Regulations and Regulated Navigation Areas

AGENCY: Coast Guard, DHS.

ACTION: Notice of expired temporary rules issued.

SUMMARY: This document provides notice of substantive rules issued by the Coast Guard that were made temporarily effective but expired before they could be published in the Federal Register. This notice lists temporary safety zones, security zones, special local regulations, drawbridge operation regulations and regulated navigation areas, all of limited duration and for which timely publication in the Federal Register was not possible.

DATES: This document lists temporary Coast Guard rules that became effective, primarily between August 2014 and September 2015, and were terminated before they could be published in the Federal Register.

ADDRESSES: Temporary rules listed in this document may be viewed online, under their respective docket numbers, using the Federal eRulemaking Portal at http://www.regulations.gov.

FOR FURTHER INFORMATION CONTACT: For questions on this notice contact Yeoman First Class David Hager, Office of Regulations and Administrative Law, telephone (202) 372-3862.

SUPPLEMENTARY INFORMATION: Coast Guard District Commanders and Captains of the Port (COTP) must be immediately responsive to the safety and security needs within their jurisdiction; therefore, District Commanders and COTPs have been delegated the authority to issue certain local regulations. Safety zones may be established for safety or environmental purposes. A safety zone may be stationary and described by fixed limits or it may be described as a zone around a vessel in motion. Security zones limit access to prevent injury or damage to vessels, ports, or waterfront facilities. Special local regulations are issued to enhance the safety of participants and spectators at regattas and other marine events. Drawbridge operation regulations authorize changes to drawbridge schedules to accommodate bridge repairs, seasonal vessel traffic, and local public events. Regulated Navigation Areas are water areas within a defined boundary, for which regulations for vessels navigating within the area have been established by the regional Coast Guard District Commander.

Timely publication of these rules in the Federal Register may be precluded when a rule responds to an emergency, or when an event occurs without sufficient advance notice. The affected public is, however, often informed of these rules through Local Notices to Mariners, press releases, and other means. Moreover, actual notification is provided by Coast Guard patrol vessels enforcing the restrictions imposed by the rule. Because Federal Register publication was not possible before the end of the effective period, mariners were personally notified of the contents of these safety zones, security zones, special local regulations, regulated navigation areas or drawbridge operation regulations by Coast Guard officials on-scene prior to any enforcement action. However, the Coast Guard, by law, must publish in the Federal Register notice of substantive rules adopted. To meet this obligation without imposing undue expense on the public, the Coast Guard periodically publishes a list of these temporary safety zones, security zones, special local regulations, regulated navigation areas, and drawbridge operation regulations. Permanent rules are not included in this list because they are published in their entirety in the Federal Register. Temporary rules are also published in their entirety if sufficient time is available to do so before they are placed in effect or terminated.

The following unpublished rules were placed in effect temporarily during the period between August 2014 and September 2015 unless otherwise indicated. To view copies of these rules, visit www.regulations.gov and search by the docket number indicated in the list below.

Docket No. | Location | Type | Effective date
USCG-2014-0963 | Pago Pago, American Samoa | Safety Zones (Parts 147 and 165) | 11/11/2014
USCG-2014-1027 | Sabine, TX | Safety Zones (Parts 147 and 165) | 11/28/2014
USCG-2014-1040 | Rockwood, IL | Safety Zones (Parts 147 and 165) | 12/6/2014
USCG-2014-1049 | New Orleans, LA | Safety Zones (Parts 147 and 165) | 12/31/2014
USCG-2014-1065 | Baton Rouge, LA | Safety Zones (Parts 147 and 165) | 12/31/2014
USCG-2014-1064 | Gulfport, MS | Safety Zones (Parts 147 and 165) | 1/7/2015
USCG-2014-1042 | New Orleans, LA | Safety Zones (Parts 147 and 165) | 1/8/2015
USCG-2015-0012 | Pennington, AL | Safety Zones (Parts 147 and 165) | 1/11/2015
USCG-2015-0054 | St. Claire County, MI | Safety Zones (Parts 147 and 165) | 1/25/2015
USCG-2015-0029 | Pascagoula, MS | Safety Zones (Parts 147 and 165) | 1/30/2015
USCG-2015-0477 | Santa Barbara, CA | Safety Zones (Parts 147 and 165) | 5/27/2015
USCG-2015-0263 | Sabine, TX | Safety Zones (Parts 147 and 165) | 5/27/2015
USCG-2015-0494 | St.Louis, MO | Safety Zones (Parts 147 and 165) | 5/30/2015
USCG-2015-0495 | St. Louis, MO | Safety Zones (Parts 147 and 165) | 5/30/2015
USCG-2015-0514 | Louis, MO | Safety Zones (Parts 147 and 165) | 6/2/2015
USCG-2015-0264 | Sabine, TX | Safety Zones (Parts 147 and 165) | 6/3/2015
USCG-2015-0535 | St. Louis, MO | Safety Zones (Parts 147 and 165) | 6/7/2015
USCG-2015-0553 | Louisville, KY | Safety Zones (Parts 147 and 165) | 6/14/2015
USCG-2015-0265 | Ports of Beaumont, Port Arthur, Orange, TX and Lake Charles | Safety Zones (Parts 147 and 165) | 6/15/2015
USCG-2015-0125 | Wantagh, NY | Special Local Regulations (Part 100) | 6/17/2015
USCG-2015-0579 | Henry, IL | Safety Zones (Parts 147 and 165) | 6/18/2015
USCG-2015-0523 | Chester, WV | Safety Zones (Parts 147 and 165) | 6/20/2015
USCG-2015-0517 | San Francisco, CA | Safety Zones (Parts 147 and 165) | 6/20/2015
USCG-2015-0625 | City of Aurora, IN | Safety Zones (Parts 147 and 165) | 6/27/2015
USCG-2015-0372 | Cumberland City, TN | Safety Zones (Parts 147 and 165) | 6/27/2015
USCG-2015-0387 | Beaver, PA | Safety Zones (Parts 147 and 165) | 6/27/2015
USCG-2015-0133 | Chattanooga, TN | Special Local Regulations (Part 100) | 6/28/2015
USCG-2015-0545 | Port Boston Zone | Safety Zones (Parts 147 and 165) | 6/28/2015
USCG-2015-0583 | Incline Village, NV | Safety Zones (Parts 147 and 165) | 6/30/2015
USCG-2015-0233 | Lake Tahoe, NV | Safety Zones (Parts 147 and 165) | 7/1/2015
USCG-2015-0606 | Los Angeles, CA | Safety Zones (Parts 147 and 165) | 7/2/2015
USCG-2015-0522 | Perth Amboy, NJ | Safety Zones (Parts 147 and 165) | 7/2/2015
USCG-2015-0237 | Kings Beach, CA | Safety Zones (Parts 147 and 165) | 7/3/2015
USCG-2015-0607 | Long Beach, CA | Safety Zones (Parts 147 and 165) | 7/3/2015
USCG-2015-0608 | Santa Catalina Island, CA | Safety Zones (Parts 147 and 165) | 7/3/2015
USCG-2015-0589 | Richmond Harbor, CA | Safety Zones (Parts 147 and 165) | 7/3/2015
USCG-2015-0283 | San Francisco, CA | Safety Zones (Parts 147 and 165) | 7/3/2015
USCG-2015-0575 | Olcott, NY | Safety Zones (Parts 147 and 165) | 7/3/2015
USCG-2015-0599 | Morris, IL | Safety Zones (Parts 147 and 165) | 7/3/2015
USCG-2015-0587 | Cornucopia, WI | Safety Zones (Parts 147 and 165) | 7/3/2015
USCG-2015-0639 | Burlington, VT | Safety Zones (Parts 147 and 165) | 7/3/2015
USCG-2015-0538 | Laplace, LA | Safety Zones (Parts 147 and 165) | 7/3/2015
USCG-2015-0547 | New Albany, IN | Safety Zones (Parts 147 and 165) | 7/3/2015
USCG-2015-0541 | Louisville, KY | Safety Zones (Parts 147 and 165) | 7/3/2015
USCG-2015-0440 | Charleston, WV | Safety Zones (Parts 147 and 165) | 7/3/2015
USCG-2015-0550 | Madison, IN | Special Local Regulations (Part 100) | 7/3/2015
USCG-2015-0557 | Long Island Port Zone | Safety Zones (Parts 147 and 165) | 7/3/2015
USCG-2015-0324 | Sea Isle City, NJ | Safety Zones (Parts 147 and 165) | 7/4/2015
USCG-2015-0239 | Glenbrook, NV | Safety Zones (Parts 147 and 165) | 7/4/2015
USCG-2015-0588 | Madeline Island, WI | Safety Zones (Parts 147 and 165) | 7/4/2015
USCG-2015-0546 | Miami, FL | Safety Zones (Parts 147 and 165) | 7/4/2015
USCG-2015-0327 | Dewey Beach, DE | Safety Zones (Parts 147 and 165) | 7/4/2015
USCG-2015-0481 | Manhattan, NY | Special Local Regulations (Part 100) | 7/4/2015
USCG-2015-0426 | Oyester Bay, NY | Special Local Regulations (Part 100) | 7/4/2015
USCG-2015-0528 | 7th Coast Guard District | Special Local Regulations (Part 100) | 7/4/2015
USCG-2015-0255 | Lake Union, WA | Safety Zones (Parts 147 and 165) | 7/4/2015
USCG-2015-0254 | Friday Harbor, WA | Safety Zones (Parts 147 and 165) | 7/4/2015
USCG-2015-0437 | Manteo, NC | Safety Zones (Parts 147 and 165) | 7/4/2015
USCG-2015-0609 | Long Beach, CA | Safety Zones (Parts 147 and 165) | 7/4/2015
USCG-2015-0610 | Newport Beach, CA | Safety Zones (Parts 147 and 165) | 7/4/2015
USCG-2015-0399 | Pittsburgh, CA | Safety Zones (Parts 147 and 165) | 7/4/2015
USCG-2015-0581 | Vallejo, CA | Safety Zones (Parts 147 and 165) | 7/4/2015
USCG-2015-0640 | Berkeley, CA | Safety Zones (Parts 147 and 165) | 7/4/2015
USCG-2015-0585 | Duluth, MN | Safety Zones (Parts 147 and 165) | 7/4/2015
USCG-2015-0598 | Neenah, WI | Safety Zones (Parts 147 and 165) | 7/4/2015
USCG-2015-0573 | Cleveland, OH | Safety Zones (Parts 147 and 165) | 7/4/2015
USCG-2015-0597 | Cedar Point, OH | Safety Zones (Parts 147 and 165) | 7/4/2015
USCG-2015-0596 | Marbledhead, OH | Safety Zones (Parts 147 and 165) | 7/4/2015
USCG-2015-0586 | Bayfield, WI | Safety Zones (Parts 147 and 165) | 7/4/2015
USCG-2015-0577 | Buffalo, NY | Safety Zones (Parts 147 and 165) | 7/4/2015
USCG-2015-0352 | Castine, ME | Safety Zones (Parts 147 and 165) | 7/4/2015
USCG-2015-0449 | Cincinnati, OH | Safety Zones (Parts 147 and 165) | 7/4/2015
USCG-2015-0367 | Point Pleasant, WV | Safety Zones (Parts 147 and 165) | 7/4/2015
USCG-2015-0560 | Owensboro, KY | Safety Zones (Parts 147 and 165) | 7/4/2015
USCG-2015-0602 | Jefferson City, MO | Safety Zones (Parts 147 and 165) | 7/4/2015
USCG-2015-0542 | Evansville, IN | Safety Zones (Parts 147 and 165) | 7/4/2015
USCG-2015-0364 | Greenup, KY | Safety Zones (Parts 147 and 165) | 7/4/2015
USCG-2015-0391 | Middleport, OH | Safety Zones (Parts 147 and 165) | 7/4/2015
USCG-2015-0516 | Chester, WV | Safety Zones (Parts 147 and 165) | 7/4/2015
USCG-2015-0530 | Lake Michigan Zone | Safety Zones (Parts 147 and 165) | 7/4/2015
USCG-2015-0444 | Paducah, KY | Safety Zones (Parts 147 and 165) | 7/4/2015
USCG-2015-0530 | Lake Michigan Zone | Safety Zones (Parts 147 and 165) | 7/4/2015
USCG-2015-0059 | Louisville, KY | Safety Zones (Parts 147 and 165) | 7/5/2015
USCG-2015-0600 | Palos Heights, IL | Safety Zones (Parts 147 and 165) | 7/8/2015
USCG-2015-0638 | San Diego, CA | Safety Zones (Parts 147 and 165) | 7/10/2015
USCG-2015-0617 | Grosse Pointe Shores, MI | Safety Zones (Parts 147 and 165) | 7/10/2015
USCG-2015-0219 | Cincinnati, OH | Special Local Regulations (Part 100) | 7/10/2015
USCG-2015-0620 | Oswego, NY | Safety Zones (Parts 147 and 165) | 7/11/2015
USCG-2015-0645 | Mystic, CT | Special Local Regulations (Part 100) | 7/11/2015
USCG-2015-0307 | Cincinnati, OH | Safety Zones (Parts 147 and 165) | 7/11/2015
USCG-2015-0644 | Bellevue, KY | Safety Zones (Parts 147 and 165) | 7/11/2015
USCG-2015-0664 | Wyandotte, MI | Special Local Regulations (Part 100) | 7/12/2015
USCG-2015-0010 | Florence, AL | Special Local Regulations (Part 100) | 7/12/2015
USCG-2015-0680 | Philadelphia, PA | Security Zones (Part 165) | 7/14/2015
USCG-2015-0353 | Castine, ME | Safety Zones (Parts 147 and 165) | 7/14/2015
USCG-2015-0605 | Augusta, GA | Safety Zones (Parts 147 and 165) | 7/16/2015
USCG-2012-1036 | Port Long Island Sound Zone | Safety Zones (Parts 147 and 165) | 7/17/2015
USCG-2015-0679 | Lorain, OH | Safety Zones (Parts 147 and 165) | 7/18/2015
USCG-2015-0354 | South Bristol, ME | Safety Zones (Parts 147 and 165) | 7/18/2015
USCG-2015-0658 | Brewerton, NY | Safety Zones (Parts 147 and 165) | 7/18/2015
USCG-2015-0675 | Brooklyn, NY | Drawbridges (Part 117) | 7/18/2015
USCG-2015-0425 | Portland, ME | Special Local Regulations (Part 100) | 7/18/2015
USCG-2015-0679 | Lorain, OH | Safety Zones (Parts 147 and 165) | 7/18/2015
USCG-2015-0396 | Oakmont, PA | Safety Zones (Parts 147 and 165) | 7/18/2015
USCG-2015-0661 | Cleveland, OH | Safety Zones (Parts 147 and 165) | 7/19/2015
USCG-2015-0702 | Galveston, TX | Safety Zones (Parts 147 and 165) | 7/20/2015
USCG-2015-0685 | Pittsburgh, PA | Security Zones (Part 165) | 7/21/2015
USCG-2015-0443 | Milwaukee, WI | Safety Zones (Parts 147 and 165) | 7/23/2015
USCG-2015-0611 | Ogdensburg, NY | Safety Zones (Parts 147 and 165) | 7/24/2015
USCG-2015-0700 | Grafton, IL | Safety Zones (Parts 147 and 165) | 7/24/2015
USCG-2015-0660 | Oswego, NY | Safety Zones (Parts 147 and 165) | 7/25/2015
USCG-2015-0592 | Pacific Grove, CA | Safety Zones (Parts 147 and 165) | 7/25/2015
USCG-2015-0302 | Nashville, TN | Special Local Regulations (Part 100) | 7/26/2015
USCG-2015-0657 | Queens, NY | Drawbridges (Part 117) | 7/27/2015
USCG-2010-0062 | Seattle, WA | Safety Zones (Parts 147 and 165) | 7/29/2015
USCG-2015-0377 | New Orleans, LA | Safety Zones (Parts 147 and 165) | 7/30/2015
USCG-2015-0214 | LaPointe, WI | Safety Zones (Parts 147 and 165) | 8/1/2015
USCG-2015-0714 | Mentor, OH | Safety Zones (Parts 147 and 165) | 8/2/2015
USCG-2015-0281 | Cincinnati, OH | Special Local Regulations (Part 100) | 8/2/2015
USCG-2014-0794 | Lakebay, WA | Safety Zones (Parts 147 and 165) | 8/4/2015
USCG-2015-0681 | National Harbor, MD | Safety Zones (Parts 147 and 165) | 8/6/2015
USCG-2015-0761 | Chicago, IL | Safety Zones (Parts 147 and 165) | 8/6/2015
USCG-2015-0709 | San Diego, CA | Safety Zones (Parts 147 and 165) | 8/7/2015
USCG-2015-0759 | Chicago, IL | Safety Zones (Parts 147 and 165) | 8/8/2015
USCG-2015-0721 | Port Huron, MI | Special Local Regulations (Part 100) | 8/8/2015
USGC-2015-0622 | Perry, WA | Safety Zones (Parts 147 and 165) | 8/8/2015
USCG-2015-0762 | Sylvan Beach, NY | Safety Zones (Parts 147 and 165) | 8/9/2015
USCG-2015-0795 | Cedar Point, OH | Safety Zones (Parts 147 and 165) | 8/13/2015
USCG-2015-0652 | Havre de Grace, MD | Safety Zones (Parts 147 and 165) | 8/14/2015
USCG-2015-0724 | San Diego, CA | Safety Zones (Parts 147 and 165) | 8/15/2015
USCG-2015-0530 | Algoma, WI | Safety Zones (Parts 147 and 165) | 8/16/2015
USCG-2015-0785 | Detriot, MI | Special Local Regulations (Part 100) | 8/21/2015
USCG-2015-0707 | Huntsville, AL | Special Local Regulations (Part 100) | 8/23/2015
USCG-2015-0775 | South Port, ME | Safety Zones (Parts 147 and 165) | 8/28/2015
USCG-2015-0766 | Petaluma, CA | Safety Zones (Parts 147 and 165) | 9/1/2015
USCG-2015-0525 | Virginia Beach, VA | Safety Zones (Parts 147 and 165) | 9/1/2015
USCG-2015-0592 | South Lake Tahoe, CA | Safety Zones (Parts 147 and 165) | 9/4/2015
USCG-2012-1036 | Port Long Island Sound Zone | Safety Zones (Parts 147 and 165) | 9/5/2015
USGC-2015-0771 | Boston Harbor, MA | Safety Zones (Parts 147 and 165) | 9/5/2015
USCG-2015-0811 | Prince William County, VA | Safety Zones (Parts 147 and 165) | 9/5/2015
USCG-2015-0770 | Port Boston Zone | Safety Zones (Parts 147 and 165) | 9/5/2015
USCG-2015-0821 | Miami Beach, FL | Safety Zones (Parts 147 and 165) | 9/5/2015
USCG-2015-0842 | Hood River, OR | Safety Zones (Parts 147 and 165) | 9/7/2015
USCG-2015-0857 | Dana Point, CA | Special Local Regulations (Part 100) | 9/11/2015
USCG-2014-0876 | Port Huron, MI | Special Local Regulations (Part 100) | 9/12/2015
USCG-2015-0844 | Pasco, WA | Safety Zones (Parts 147 and 165) | 9/12/2015
USCG-2015-0834 | Buffalo, NY | Safety Zones (Parts 147 and 165) | 9/13/2015
USCG-2015-0868 | Portland, OR | Drawbridges (Part 117) | 9/13/2015
USCG-2015-0816 | Long Island Port Zone | Safety Zones (Parts 147 and 165) | 9/15/2015
USCG-2015-0890 | San Pedro, CA | Safety Zones (Parts 147 and 165) | 9/17/2015
USCG-2015-0683 | Cocoa Beach, FL | Special Local Regulations (Part 100) | 9/18/2015
USCG-2015-0881 | San Pedro, CA | Safety Zones (Parts 147 and 165) | 9/18/2015
USCG-2015-0561 | Miami, FL | Safety Zones (Parts 147 and 165) | 9/20/2015
USCG-2015-0843 | Portland, OR | Safety Zones (Parts 147 and 165) | 9/20/2015
USCG-2015-0897 | Point Mugu, CA | Safety Zones (Parts 147 and 165) | 9/25/2015
USCG-2015-0845 | Portland, OR | Safety Zones (Parts 147 and 165) | 9/27/2015

Katia Kroutil,
Chief, Office of Regulations and Administrative Law.

[FR Doc. 2017-15373 Filed 7-20-17; 8:45 am]

BILLING CODE P